INTERNATIONAL TRADE COMMISSION

[Investigation Nos. 701-TA-657 and 731-TA-1537 (Final)]

Chassis From China; Scheduling of the Final Phase of Countervailing Duty and Antidumping Duty Investigations; Correction

AGENCY: United States International Trade Commission.

ACTION: Correction of notice.

Correction is made to the March 24, 2021 deadline for filing posthearing briefs statements, the April 8, 2021 date of record closing, and the April 12, 2021 deadline for filing final comments, in the Written Submissions section of the notice which was published on January 14, 2021 (86 FR 3193). The correct deadline dates are as follows: Filing posthearing briefs and statements is March 23, 2021; the record closing is April 7, 2021; and deadline for final comments is April 9, 2021.

By order of the Commission.
Issued: January 14, 2021.
Lisa Barton,
Secretary to the Commission.

[FR Doc. 2021-01318 Filed 1-28-21; 8:45 am]

BILLING CODE 7020-02-P